DEPARTMENT OF HOMELAND SECURITY

Federal Emergency Management Agency

[Docket ID FEMA-2013-0002; Internal Agency Docket No. FEMA-B-1310]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 8, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1310, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Effingham County, Georgia, and Incorporated Areas
Maps Available for Inspection Online at: http://georgiadfirm.com/status/mapmodStatus.html
City of Rincon | City Hall, 302 South Columbia Avenue, Rincon, GA 31326.
City of Springfield | City Hall, 130 South Laurel Street, Springfield, GA 31329.
Town of Guyton | City Hall, 310 Central Boulevard, Guyton, GA 31312.
Unincorporated Areas of Effingham County | Effingham County Administrative Complex, 601 North Laurel Street, Springfield, GA 31329.
Chatham County, Georgia, and Incorporated Areas
Maps Available for Inspection Online at: http://georgiadfirm.com/status/mapmodStatus.html
City of Bloomingdale | City Hall, 8 West U.S. Route 80, Bloomingdale, GA 31302.
City of Pooler | City Hall, 100 Southwest Highway 80, Pooler, GA 31322.
City of Port Wentworth | City Hall, 305 South Coastal Highway, 31407, GA 31407.
City of Savannah | City Hall, 2 East Bay Street, Savannah, GA 31402.
Unincorporated Areas of Chatham County | Chatham County Courthouse, 124 Bull Street, Suite 200, Savannah, GA 31401.
Bonner County, Idaho, and Incorporated Areas
Maps Available for Inspection Online at: http://www.starr-team.com/starr/RegionalWorkspaces/RegionX/PriestLake/SitePages/Home.aspx
Unincorporated Areas of Bonner County | Bonner County Planning Department, 1500 Highway 2, Suite 208, Sandpoint, ID 8386.
Dubois County, Indiana, and Incorporated Areas
Maps Available for Inspection Online at: http://www.in.gov/dnr/water/6676.htm
City of Huntingburg | City Hall, 508 East 4th Street, Huntingburg, IN 47542.
City of Jasper | City Hall, 610 Main Street, Jasper, IN 47547.
Town of Ferdinand | Town Hall, 2065 Main Street, Ferdinand, IN 47532.
Unincorporated Areas of Dubois County | Dubois County Courthouse, One Courthouse Square, Jasper, IN 47546.
Clay County, Kansas, and Incorporated Areas
Maps Available for Inspection Online at: www.agriculture.ks.gov/dwr/floodplain/mapping/Clay
City of Clay Center | City Hall, 427 Court Street, Clay Center, KS 67432.
City of Green | City Hall, 106 Dickson Avenue, Green, KS 67447.
City of Longford | City Hall, 102 Weda Street, Longford, KS 67458.
City of Morganville | City Office, 101 North Main Street, Morganville, KS 67468.
City of Oak Hill | City Hall, 210 Spears Street, Oak Hill, KS 67432.
City of Wakefield | City Office, 609 Grove Street, Wakefield, KS 67487.
Unincorporated Areas of Clay County | Clay County Courthouse, 712 5th Street, Clay Center, KS 67432.
Freeborn County, Minnesota, and Incorporated Areas
Maps Available for Inspection Online at: http://www.starr-team.com/starr/RegionalWorkspaces/RegionV/FreebornCoMN
City of Albert Lea | City Hall, 221 East Clark Street, Albert Lea, MN 56007.
City of Emmons | City Hall, 219 Main Street, Emmons, MN 56029.
City of Glenville | City Hall, 221 West Main Street, Glenville, MN 56036.
City of Hollandale | Government Center, 110 Park Avenue West, Hollandale, MN 56045.
City of Twin Lakes | City Hall, 101 Main Street West, Twin Lakes, MN 56089.
Unincorporated Areas of Freeborn County | Freeborn County Government Center, 411 South Broadway, Albert Lea, MN 56007.
McLeod County, Minnesota, and Incorporated Areas
Maps Available for Inspection Online at: http://www.starr-team.com/starr/RegionalWorkspaces/RegionV/McLeodCoMN
City of Biscay | McLeod County Sheriff's Office, 801 10th Street East, Glencoe, MN 55336.
City of Brownton | McLeod County Sheriff's Office, 801 10th Street East, Glencoe, MN 55336.
City of Glencoe | Administration Building, 1107 11th Street East, Glencoe, MN 55336.
City of Hutchinson | City Hall, 111 Hassan Street Southeast, Hutchinson, MN 55350.
City of Lester Prairie | City Hall, 37 Juniper Street North, Lester Prairie, MN 55354.
City of Plato | City Office, 112 2nd Avenue Northeast, Plato, MN 55370.
City of Silver Lake | City Hall, 308 Main Street West, Silver Lake, MN 55381.
City of Winsted | McLeod County Sheriff's Office, 801 10th Street East, Glencoe, MN 55336.
Unincorporated Areas of McLeod County | McLeod County Courthouse, 830 11th Street East, Glencoe, MN 55336.
Roseau County, Minnesota, and Incorporated Areas
Maps Available for Inspection Online at: http://www.starr-team.com/starr/RegionalWorkspaces/RegionV/RoseauCoMN
City of Greenbush | City Hall, 244 Main Street North, Greenbush, MN 56726.
City of Roseau | City Center, 121 Center Street East, Suite 202, Roseau, MN 56751.
City of Warroad | City Office, 121 Main Avenue Northeast, Warroad, MN 56763.
Unincorporated Areas of Roseau County | Roseau County Courthouse, 606 5th Avenue Southwest, Room 130, Roseau, MN 56751.
Pleasants County, West Virginia, and Incorporated Areas
Maps Available for Inspection Online at: www.rampp-team.com/wv.htm
City of St. Mary's | Court House, 418 Second Street, St. Marys, WV 26170.
Town of Belmont | Court House, 218 Main Street, Belmont, WV 26134.
Unincorporated Areas of Pleasants County | Pleasants County Court House, 301 Court Lane, Suite 101, St. Marys, WV 26170.
Brown County, Wisconsin, and Incorporated Areas
Maps Available for Inspection Online at: http://www.starr-team.com/starr/RegionalWorkspaces/RegionV/BrownWIPMR
The Oneida Nation of Wisconsin | Norbert Hill Center, North 7210 Seminary Road, Oneida, WI 54155.
Village of Hobart | Hobart Village Hall, 2990 South Pine Tree Road, Oneida, WI 54155.

(Catalog of Federal Domestic Assistance No. 97.022, “Flood Insurance.”)

Roy E. Wright,
Deputy Associate Administrator for Mitigation, Department of Homeland Security, Federal Emergency Management Agency.

[FR Doc. 2013-08046 Filed 4-5-13; 8:45 am]

BILLING CODE 9110-12-P